DEPARTMENT OF ENERGY

Federal Energy Regulatory Commission

[Docket Nos. ER02-2001-012; ER07-1250-000]

Electric Quarterly Reports; PowerGrid Systems, Inc.; Notice of Revocation of Market-Based Rate Tariff

July 16, 2009.

On June 22, 2009, the Commission issued an order announcing its intent to revoke the market-based rate authority of the above captioned public utility, which had failed to file its required Electric Quarterly Reports.¹ The Commission provided the utility fifteen days in which to file its overdue Electric Quarterly Reports or face revocation of its market-based rate tariff.

¹ Electric Quarterly Reports, 127 FERC ¶ 61,290 (2009) (June 22 Order).

In Order No. 2001, the Commission revised its public utility filing requirements and established a requirement for public utilities, including power marketers, to file Electric Quarterly Reports summarizing the contractual terms and conditions in their agreements for all jurisdictional services (including market-based power sales, cost-based power sales, and transmission service) and providing transaction information (including rates) for short-term and long-term power sales during the most recent calendar quarter.²

² Revised Public Utility Filing Requirements, Order No. 2001, 67 Fed. Reg. 31,043, FERC Stats. & Regs. ¶ 31,127, reh'g denied, Order No. 2001-A, 100 FERC ¶ 61,074, reconsideration and clarification denied, Order No. 2001-B, 100 FERC ¶ 61,342, order directing filings, Order No. 2001-C, 101 FERC ¶ 61,314 (2002), order directing filing, Order No. 2001-D, 102 FERC ¶ 61,334 (2003).

In the June 22 Order, the Commission directed PowerGrid Systems, Inc. to file the required Electric Quarterly Reports within 15 days of the date of issuance of the order or face revocation of its authority to sell power at market-based rates and termination of its electric market-based rate tariff. ³

³ June 22 Order at Ordering Paragraph A.

The time period for compliance with the June 22 Order has elapsed. The company identified in the June 22 Order (PowerGrid Systems, Inc.) has failed to file its delinquent Electric Quarterly Reports.

The Commission hereby revokes this company's market-based rate authority and terminates the electric market-based rate tariff.

Kimberly D. Bose,
Secretary.

[FR Doc. E9-17507 Filed 7-22-09; 8:45 am]

BILLING CODE 6717-01-P